DEPARTMENT OF TRANSPORTATION

Federal Aviation Administration

14 CFR Part 39

[Docket No. 2001-CE-43-AD]

RIN 2120-AA64

Airworthiness Directives; Raytheon Aircraft Company Models E55, E55A, A56TC, 58, 58A, 58P, 58PA, 58TC, and 58TCA Airplanes

AGENCY: Federal Aviation Administration, DOT.

ACTION: Notice of proposed rulemaking (NPRM).

SUMMARY: This document proposes to adopt a new airworthiness directive (AD) that would apply to certain Raytheon Aircraft Company (Raytheon) Models E55, E55A, A56TC, 58, 58A, 58P, 58PA, 58TC, and 58TCA airplanes. This proposed AD would require you to inspect the Instrument Subpanel electroluminescent panel retaining screw for proper length and the rotating beacon circuit breaker switch (or any other switch in the same location) for damage, and replace any screw or circuit breaker switch as necessary. This proposed AD is the result of a report that an improper length electroluminescent panel retaining screw damaged the rotating beacon circuit breaker switch which resulted in damaged wiring. The actions specified by this proposed AD are intended to prevent damage to the rotating beacon circuit breaker switch or any other switch in the same location because of an incorrect length electroluminescent panel retaining screw. This condition could result in failure of the circuit breaker and lead to smoke and/or fire in the cockpit.

DATES: The Federal Aviation Administration (FAA) must receive any comments on this proposed rule on or before April 5, 2002.

ADDRESSES: Submit comments to FAA, Central Region, Office of the Regional Counsel, Attention: Rules Docket No. 2001-CE-43-AD, 901 Locust, Room 506, Kansas City, Missouri 64106. You may view any comments at this location between 8 a.m. and 4 p.m., Monday through Friday, except Federal holidays.

You may get service information that applies to this proposed AD from Raytheon Aircraft Company, P.O. Box 85, Wichita, Kansas 67201-0085; telephone: (800) 429-5372 or (316) 676-3140. You may also view this information at the Rules Docket at the address above.

FOR FURTHER INFORMATION CONTACT: Todd Dixon, Aerospace Engineer, FAA, Wichita Aircraft Certification Office, 1801 Airport Road, Room 100, Mid-Continent Airport, Wichita, Kansas 67209; telephone: (316) 946-4152; facsimile: (316) 946-4407.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule.

You may view all comments we receive before and after the closing date of the rule in the Rules Docket. We will file a report in the Rules Docket that summarizes each contact we have with the public that concerns the substantive parts of this proposed AD.

How Can I Be Sure FAA Receives My Comment?

If you want FAA to acknowledge the receipt of your comments, you must include a self-addressed, stamped postcard. On the postcard, write “Comments to Docket No. 2001-CE-43-AD.” We will date stamp and mail the postcard back to you.

Discussion

What Events Have Caused This Proposed AD?

Raytheon notified FAA of an incident where the pilot had to return to the departing airport after declaring an emergency because of smoke in the cockpit. After investigation, FAA determined that the cause of smoke in the cockpit was a result of damage to the rotating beacon circuit breaker switch caused by an improper length electroluminescent panel retaining screw. The damaged circuit breaker switch failed to shutdown the electrical current to the rotating beacon. Failure of the circuit breaker switch caused the wiring to burn through the insulation and the other wires in the wire bundle that were routed with the wiring to the rotating beacon circuit breaker switch.

What Are the Consequences if the Condition Is Not Corrected?

This condition, if not corrected, could result in failure of the rotating beacon circuit breaker switch or any other switch in the same location. Failure of the circuit breaker switch could result in smoke and/or fire in the cockpit.

Is There Service Information That Applies to This Subject?

Raytheon has issued Mandatory Service Bulletin SB 33-3452, Issued: May, 2001.

What Are the Provisions of This Service Information?

The service bulletin includes procedures for:

—Inspecting the Instrument Subpanel electroluminescent panel for the installation of a rotating beacon circuit breaker switch or any other switch installed directly above the electroluminescent panel retaining screw;

—Inspecting the installed switch for damage;

—Replacing any damaged switch;

—Inspecting the electroluminescent panel retaining screw to ensure correct length; and

—Replacing any incorrect length electroluminescent panel retaining screw with a part number (P/N) MS35214-24 screw.

The FAA's Determination and an Explanation of the Provisions of This Proposed AD

What Has FAA Decided?

After examining the circumstances and reviewing all available information related to the incidents described above, we have determined that:

—The unsafe condition referenced in this document exists or could develop on other Raytheon Models E55, E55A, A56TC, 58, 58A, 58P, 58PA, 58TC, and 58TCA airplanes of the same type design;

—The actions specified in the previously-referenced service information should be accomplished on the affected airplanes; and

—AD action should be taken in order to correct this unsafe condition.

What Would This Proposed AD Require?

This proposed AD would require you to incorporate the actions in the previously-referenced service bulletin.

What Are the Differences Between This Proposed AD and the Service Information?

Raytheon Mandatory Service Bulletin No. SB 33-3452, Issued: May, 2001, is applicable to Models E55, A56TC, 58, 58P, and 58TC airplanes. We have expanded the applicability of this proposed AD to include Models E55A, 58A, 58PA, and 58TCA airplanes. The serial number ranges of the affected models indicated in the service information includes these models as indicated on Type Certificate Data Sheet 3A16, dated January 15, 2000.

Raytheon Mandatory Service Bulletin No. SB 33-3452, Issued: May, 2001, specifies that you accomplish the inspection within 25 hours time-in-service (TIS) or 10 days after the effective date of the AD. We propose a requirement that you inspect within 100 hours TIS after the effective date of this proposed AD.

We do not have justification to require this action within 25 hours TIS. We use compliance times such as this when we have identified an urgent safety of flight situation. We believe that 100 hours TIS will give the owners or operators of the affected airplanes enough time to have the proposed actions accomplished without compromising the safety of the airplanes.

Cost Impact

How Many Airplanes Would This Proposed AD Impact?

We estimate that this proposed AD affects 1,636 airplanes in the U.S. registry.

What Would Be the Cost Impact of This Proposed AD on Owners/Operators of the Affected Airplanes?

We estimate the following costs to accomplish the proposed inspection:

Labor cost | Parts cost | Total cost per airplane | Total cost on U.S. operators
1 workhour × $60 = $60 | No parts required for the inspection | $60 | $98,160

We estimate the following costs to accomplish any necessary replacements that would be required based on the results of the proposed inspection. We have no way of determining the number of airplanes that may need such replacements:

Labor cost | Parts cost | Total cost per airplane
3 workhours × $60 = $180 | $1 for new electroluminescent panel retaining screw $40 for new circuit breaker switch | $180 + applicable replacement part(s) cost

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Raytheon Aircraft Company: Docket No. 2001-CE-43-AD

(a) What airplanes are affected by this AD? This AD affects the following airplane models and serial numbers that are certificated in any category:

Model | Serial numbers
E55 and E55A | TE-768 through TE-1201
A56TC | TG-84 through TG-94
58 and 58A | TH-1 through TH-1388 and TH-1390 through TH-1395
58P and 58PA | TJ-3 through TJ-435 and TJ-437 through TJ-443
58TC and 58TCA | TK-1 through TK-146 and TK-148 through TK-150

(b) Who must comply with this AD? Anyone who wishes to operate any of the airplanes identified in paragraph (a) of this AD must comply with this AD.

(c) What problem does this AD address? The actions specified by this AD are intended to prevent damage to the rotating beacon circuit breaker switch or any other switch in the same location because of an incorrect length electroluminescent panel retaining screw. This condition could result in failure of the circuit breaker and lead to smoke and/or fire in the cockpit.

(d) What actions must I accomplish to address this problem? To address this problem, you must accomplish the following:

Actions | Compliance | Procedures
(1) Inspect the Instrument Subpanel electroluminescent panel for the installation of a rotating beacon circuit breaker switch or any other switch directly above the lower electroluminescent panel retaining screw | Within the next 100 hours time-in-service (TIS) after the effective date of this AD | In accordance with the Accomplishment Instructions section of Raytheon Mandatory Service Bulletin SB 33-3452, Issued: May, 2001.
(i) If a blanking plug is installed above the lower electroluminescent panel retaining screw, ensure that the correct length screw is installed. The correct length is 0.28 to 0.31 inches.
(ii) If the screw is not the correct length, install part number (P/N) MS35214-24.
(iii) If a rotating beacon circuit breaker switch or any other switch is installed, inspect the switch for damage.
(2) Replace any damaged switch found during the inspection required in paragraph (d)(1)(iii) of this AD and replace the electroluminescent panel retaining screw if it is not 0.28 to 0.31 inches in length with a P/N MS35214-24 screw | Prior to further flight after the inspection required by paragraph (d)(1)(iii) of this AD | In accordance with the Accomplishment Instructions section of Raytheon Mandatory Service Bulletin SB 33-3452, Issued: May, 2001.
(3) Only install an electroluminescent panel retaining screw in the lower part of the Instrument Subpanel (underneath the circuit breaker switches) that: | As of the effective date of this AD | Not applicable.
(i) Has a length of at least 0.28 inches but not longer than 0.31 inches; or
(ii) Is P/N MS35214-24 or FAA-approved equivalent part number.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Todd Dixon, Aerospace Engineer, FAA, Wichita Aircraft Certification Office, 1801 Airport Road, Room 100, Mid-Continent Airport, Wichita, Kansas 67209; telephone: (316) 946-4152; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Raytheon Aircraft Company, P.O. Box 85, Wichita, Kansas 67201-0085. You may view these documents at FAA, Central Region, Office of the Regional Counsel, 901 Locust, Room 506, Kansas City, Missouri 64106.

Issued in Kansas City, Missouri, on January 24, 2002.
Michael K. Dahl,
Acting Manager, Small Airplane Directorate, Aircraft Certification Service.

[FR Doc. 02-2300 Filed 1-30-02; 8:45 am]

BILLING CODE 4910-13-U